DEPARTMENT OF LABOR

Employment and Training Administration

[TA-W-54,143]

Elizabeth Weaving, Inc., Blacksburg, SC; Amended Certification Regarding Eligibility To Apply for Worker Adjustment Assistance

In accordance with section 223 of the Trade Act of 1974 (19 U.S.C. 2273), as amended, the Department of Labor issued a Certification of Eligibility to Apply for Worker Adjustment Assistance on March 2, 2004, applicable to workers of Elizabeth Weaving, Inc., located in Grover, North Carolina. The notice was published in the Federal Register on April 6, 2004 (69 FR 18110).

At the request of the State Agency, the Department reviewed the certification for workers of the subject firm. The State provided information citing that the subject firm is located in Blacksburg, South Carolina, not Grover, North Carolina which is the mailing address for Elizabeth Weaving, Inc.

Accordingly, the Department is amending the certification to reflect this matter. The amended notice applicable to TA-W-54,143 is hereby issued as follows:

All workers of Elizabeth Weaving, Inc., Blacksburg, South Carolina, who became totally or partially separated from employment on or after January 21, 2003, through March 2, 2006, are eligible to apply for adjustment assistance under section 223 of the Trade Act of 1974.

Signed in Washington, DC, this 2nd day of March, 2004.
Elliott S. Kushner,
Certifying Officer, Division of Trade Adjustment Assistance.

[FR Doc. E4-859 Filed 4-15-04; 8:45 am]

BILLING CODE 4510-13-P